ENVIRONMENTAL PROTECTION AGENCY

[OPP-100172; FRL-6791-2]

Vistronix, Inc. and Labat-Anderson, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Vistronix, Inc. and its subcontractor, Labat-Anderson, Inc. in accordance with 40 CFR 2.307(h)(3) and 2.308(i)(2). Vistronix, Inc. and its subcontractor, Labat-Anderson, Inc., have been awarded a contract to perform work for OPP, and access to this information will enable Vistronix, Inc. and its subcontractor, Labat-Anderson, Inc., to fulfill the obligations of the contract.

DATES: Vistronix, Inc. and its subcontractor, Labat-Anderson, Inc., will be given access to this information on or before July 16, 2001.

FOR FURTHER INFORMATION CONTACT: By mail: Erik R. Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under Contract No. 68-W0-1002/000, Vistronix, Inc. and its subcontractor, Labat-Anderson, Inc., will perform the following based on the statement of work:

The Information Services Branch (ISB) of the Information Resources and Services Division (IRSD) is responsible for providing records management guidance and support throughout OPP. ISB works closely with OPP managers and staff to develop program wide policies and procedures for managing OPP records, and to ensure program practices are consistent with Agency and Federal record keeping requirements.

To assist in this effort, ISB shall use contractor services to perform records management support services for OPP. Specifically, contractor services will be used to assist the conversion of paper records to electronic records. This record conversion project will also entail electronic file conversion and electronic file renaming projects. Contractor shall also support OPP in the processing of a backlog of pesticide incident reports, and other general records management tasks as needed. The contractor shall perform all work on site using government furnished equipment including OPP, Agency and off the shelf software applications.

The OPP has determined that access by Vistronix, Inc. and its subcontractor, Labat-Anderson, Inc., to information on all pesticide chemicals is necessary for the performance of this contract.

Some of this information may be entitled to confidential treatment. The information has been submitted to EPA under sections 3, 4, 6, and 7 of FIFRA and under sections 408 and 409 of FFDCA.

In accordance with the requirements of 40 CFR 2.307(h)(2), the contract with Vistronix, Inc. and its subcontractor, Labat-Anderson, Inc., prohibits use of the information for any purpose not specified in the contract; prohibits disclosure of the information to a third party without prior written approval from the Agency; and requires that each official and employee of the contractor sign an agreement to protect the information from unauthorized release and to handle it in accordance with the FIFRA Information Security Manual. In addition, Vistronix, Inc. and its subcontractor, Labat-Anderson, Inc., are required to submit for EPA approval a security plan under which any CBI will be secured and protected against unauthorized release or compromise. No information will be provided to Vistronix, Inc. and its subcontractor, Labat-Anderson, Inc., until the requirements in this document have been fully satisfied. Records of information provided to Vistronix, Inc. and its subcontractor, Labat-Anderson, Inc., will be maintained by EPA Project Officers for this contract. All information supplied to Vistronix, Inc. and its subcontractor, Labat-Anderson, Inc., by EPA for use in connection with this contract will be returned to EPA when Vistronix, Inc. and its subcontractor, Labat-Anderson, Inc., have completed their work.

List of Subjects

Environmental protection, Business and industry, Government contracts, Government property, Security measures.

Dated: June 26, 2001.
Richard D. Schmitt,
Acting Director, Information Resources and Services Division, Office of Pesticide Programs.

[FR Doc. 01-17206 Filed 7-10-01; 8:45 am]

BILLING CODE 6560-50-S